ENVIRONMENTAL PROTECTION AGENCY

[EPA-HQ-OPP-2014-0561; FRL-9914-57]

Amendment, Extension, or Issuance of an Experimental Use Permit

AGENCY: Environmental Protection Agency (EPA).

ACTION: Notice.

SUMMARY: EPA has granted amendments, extensions, and issuances of experimental use permits (EUPs) to the pesticide applicants described in Unit II. of the SUPPLEMENTARY INFORMATION. An EUP permits use of a pesticide for experimental or research purposes only in accordance with the limitations in the permit.

FOR FURTHER INFORMATION CONTACT: Robert McNally, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

I. General Information

A. Does this action apply to me?

This action is directed to the public in general. Although this action may be of particular interest to those persons who conduct or sponsor research on pesticides, the Agency has not attempted to describe all the specific entities that may be affected by this action.

B. How can I get copies of this document and other related information?

The dockets for these actions, identified by docket identification (ID) numbers EPA-HQ-OPP-2013-0254 and EPA-HQ-OPP-2014-0212, are available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUP

EPA has issued the following EUPs:

1. 8917-EUP-1. EPA-HQ-OPP-2014-0212. Issuance. Company: J.R. Simplot Company, 5369 West Irving St., Boise, ID 83706. This EUP allows the use of a total of approximately 0.00718 pound of the VNT1 protein that is expected to be expressed by Rpi-vnt1 gene in 239,375 pounds of Innate TM 2.0 potatoes in the Plant Incorporated Protectant (PIP) on a total of 96.75 acres of potatoes to evaluate the control of potato blight. The program is authorized only in the States of Idaho, Michigan, Nebraska, New York, North Carolina, North Dakota, Oregon, Pennsylvania, Washington, and Wisconsin. Experimental protocol also includes 15.32 maximum border acreage of non-PIP potatoes. Harvested plant material from breeding PIPs have not yet been commercially registered and must not be allowed to enter the food or feed supply. Two positive comments were received to the Notice of Receipt of the application published in the Federal Register of April 9, 2014 (79 FR 19611) (FRL-9908-82). J.R. Simplot Company must provide reports to EPA in accordance with the limitations of the EUP. The EUP is effective from May 13, 2014, to May 30, 2015.

2. 89668-EUP-1. EPA-HQ-OPP-2013-0254. Amendment and Extension. Company: Robert I. Rose, Ph.D., on behalf of James Mains, Ph.D., Mosquito Mate, Inc., 1122 Oak Hill Dr., Lexington, KY 40505-3322. This EUP allows the use of a total of 249.6 milligrams (mg) of the microbial insecticide, Wolbachia pipientis ZAP strain, on a total of 48 acres. The extension and amendment of the EUP allows weekly releases of 100,000 male Aedes albopictus mosquitoes containing the microbial active ingredient over a 26-week period. The EUP intends to evaluate the suppression of the population of the naturally occurring Aedes albopictus mosquitoes. On mating with the released male mosquitoes, the females are expected to produce non-viable eggs. Mosquito population and eggs will be monitored over approximately 15,213 acres during the EUP and reported annually to Biopesticides and Pollution Prevention Division. The program is authorized only in the States of California (CA), Florida (FL), Kentucky (KY), and New York (NY). The EUP is effective from June 26, 2014, to October 31, 2015, in CA, FL, and KY and to September 30, 2016, in NY.

3. 88347-EUP-1. EPA-HQ-OPP-2013-0427. Amendment and Extension. Company: Phyllom BioProducts Corporation, 424 Lake Park Ave., #23, Oakland, CA 94610. This EUP allows the use of a total of 8,721 pounds of the insecticide, Bacillus thuringiensis subspecies galleriae strain SDS-502 fermentation solids, spores, and insecticidal toxins, on a total of 3,300 acres of forested areas to evaluate the control of emerald ash borer (Agrilus planipennis). The program is authorized only in the States of Illinois, Minnesota, Pennsylvania, and Wisconsin. The EUP is effective from August 6, 2014, to August 31, 2015.

Authority: 7 U.S.C. 136c.

List of Subjects

Environmental protection, Experimental use permits.

Dated: August 8, 2014.
Kimberly Nesci,
Acting Director, Biopesticides and Pollution Prevention, Office of Pesticide Programs.

[FR Doc. 2014-19878 Filed 8-21-14; 8:45 am]

BILLING CODE 6560-50-P